Title 3—

The President

Proclamation 10392 of May 6, 2022

National Women's Health Week, 2022

By the President of the United States of America

A Proclamation

During National Women's Health Week, we recommit to ensuring the health and well-being of women and girls across our Nation. Central to this mission is protecting women's fundamental rights to make their own choices and build their own future. I am committed to defending women's rights, including their access to reproductive health care. Roe has been the law of the land for almost 50 years; basic fairness and the stability of our law demand that it not be overturned. In response to the continued attack on abortion and reproductive rights across the country, my Administration is exploring all the tools at our disposal to strengthen and protect women's access to critical reproductive health care. We will continue to work with the Congress to pass the Women's Health Protection Act, which will ensure that all women have access to critical reproductive health care, no matter where they live.

For every American, health care is a right, not a privilege, and gender equity in health care is a top priority for my Administration. That is why we are building upon the Affordable Care Act (ACA) to improve the health of all Americans—especially women. Through the ACA, millions of people are able to access health care. In addition, women with preexisting conditions cannot be denied coverage, and women can no longer be charged more for health insurance simply because they are women. Last month, my Administration proposed the most significant administrative action to improve the ACA by eliminating the “family glitch,” which will save families hundreds of dollars a month and help them afford family coverage.

I am committed to ensuring that women also have access to the life-saving preventive care screenings that so many Americans have skipped or delayed because of the pandemic—including cholesterol, blood pressure, and cancer screenings.

Advancing health equity also requires improving maternal health care. America's maternal mortality rates are among the highest in the developed world, especially among Black and Native American women. That is why, through the American Rescue Plan, we have given States the opportunity to provide 12 months of extended postpartum coverage to pregnant women who are enrolled in Medicaid and the Children's Health Insurance Program. By expanding access to maternal care and lowering health care costs, we can drive down mortality rates and ensure women can live full and healthy lives.

As I mentioned in my State of the Union Address, it is also time for America to make bolder investments to address our national mental health crisis—a crisis that disproportionately impacts young women and girls, who are twice as likely to be diagnosed with mental health conditions like depression and anxiety. My vision will broaden the pipeline of behavioral health providers, integrate mental health and substance use treatment into primary care, and expand access through more virtual care options.

As President, Vice President, and Senator, I have long been committed to ending gender-based violence and trauma, which have lasting effects on health outcomes for women, girls, and their families. That is why I first wrote the Violence Against Women Act in 1990 and worked with the Congress to reauthorize it through 2027 to increase support, funding, and resources for survivors and improve the health care system's response to domestic violence and sexual assault.

We have achieved great progress, but there is still more work to do—including to defend reproductive rights, which are under unprecedented attack, and to ensure we do not go backwards on women's equality. As we celebrate National Women's Health Week, let us recommit to ensuring equal access to high-quality, affordable care for all women and girls and to improving the health of our Nation.

NOW, THEREFORE, I, JOSEPH R. BIDEN JR., President of the United States of America, by virtue of the authority vested in me by the Constitution and the laws of the United States, do hereby proclaim May 8 through May 14, 2022, as National Women's Health Week. During this week, I encourage all Americans to join us in a collective effort to improve the health of women and girls and promote health equity for all. I encourage all women and girls—especially those with underlying health conditions—to prioritize their health and catch up on any missed screenings, routine care, and vaccines.

IN WITNESS WHEREOF, I have hereunto set my hand this sixth day of May, in the year of our Lord two thousand twenty-two, and of the Independence of the United States of America the two hundred and forty-sixth.

[FR Doc. 2022-10191

Filed 5-10-22; 8:45 am]

Billing code 3395-F2-P